NATIONAL ARCHIVES AND RECORDS ADMINISTRATION

[NARA-2018-015]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by February 15, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road, College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road, College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Rural Development Agency (DAA-0572-2017-0004, 9 items, 9 temporary items). Community Facilities Program records. This loan and borrower program finances essential community facilities in rural areas. Included are field activity reports, routine studies, loan application information, borrower files, and loan docket records.

2. Department of Agriculture, Rural Development Agency (DAA-0572-2017-0007, 7 items, 7 temporary items). Multi-Family Housing Program records. This program provides affordable multi-family rental housing in rural areas by financing projects aimed at low income elderly and disabled individuals and families, as well as domestic farm laborers. Included are borrower files, loan applications, field activity reports, and loan docket files.

3. Department of Health and Human Services, Health Resources and Services Administration (DAA-0512-2017-0004, 1 item, 1 temporary item). Agency-wide system records containing the demographic data of trainees of grant programs. Included in this data are training and general employment information.

4. Department of Health and Human Services, Health Resources and Services Administration (DAA-0512-2018-0001, 1 item, 1 temporary item). Hotline complaint records of the Inspector General's Office relating to Health Resources and Services Administration programs. Included in these records are the initial complaint, administrative reviews, and responses to the Inspector General.

5. Department of Homeland Security, Bureau of Customs and Border Protection (DAA-0568-2017-0005, 8 items, 8 temporary items). Records related to international trade compliance, including records of audits, recordkeeping requirements, prohibited merchandise and commodities, and country of origin markings.

6. Department of Homeland Security, Bureau of Customs and Border Protection (DAA-0568-2017-0014, 1 item, 1 temporary item). Records of courses in which agents are trained to instruct other law enforcement personnel in professional strategies and practices.

7. Department of Homeland Security, Federal Emergency Management Agency (DAA-0311-2018-0001, 1 item, 1 temporary item). Radiological data collected for emergency management planning and assessment.

8. Department of Homeland Security, Federal Emergency Management Agency (DAA-0311-2018-0002, 1 item, 1 temporary item). Master files of an electronic information system used to track and monitor personnel deployed in disaster response.

9. Department of Homeland Security, United States Citizenship and Immigration Services (DAA-0566-2017-0031, 2 items, 2 temporary items). Data elements in an electronic information system used to manage and evaluate immigration petition workflow.

10. Department of Justice, Drug Enforcement Administration (DAA-0170-2017-0002, 1 item, 1 temporary item). Records related to transportation activities that support enforcement operations, including justification statements, passenger and cargo manifests, and reports.

11. Department of Justice, United States Marshals Service (DAA-0527-2017-0010, 1 item, 1 temporary item). Administrative records of the aircraft management program such as correspondence and instructional files.

12. Department of the Navy, Agency-wide (DAA-NU-2015-0005, 91 items, 59 temporary items). Records relating to administration and management, including employment records, program management, interagency agreements, inspection reports, information management, working papers, and related records. Proposed for permanent retention are records on policy, organizational charts, command histories, directives case files, international agreements, Inspector General investigations, criminal investigative case files, and similar records.

13. Department of the Treasury, Internal Revenue Service (DAA-0058-2017-0016, 13 items, 13 temporary items). Records related to the collection of tax debts by private contractors such as case files; productivity reports; operational planning, procedure, and development files; business process review reports; complaint files; litigation background files; employee threat files; and related administrative materials.

14. Federal Election Commission, Information Division (DAA-0339-2018-0002, 1 item, 1 temporary item). Records related to requests for agency staff to speak to external groups.

15. Peace Corps, Office of Global Operations (DAA-0490-2017-0005, 3 items, 2 temporary items). Records related to the Office including general administrative records such as routine correspondence, reports, notices, and meeting agendas and minutes. Proposed for permanent retention are high level program records, such as policy files, decision memorandums, internal assessments, and reports.

Laurence Brewer,
Chief Records Officer for the U.S. Government.

[FR Doc. 2018-00545 Filed 1-12-18; 8:45 am]

BILLING CODE 7515-01-P